DEPARTMENT OF AGRICULTURE

Forest Service

California Coast Provincial Advisory Committee

AGENCY: Forest Service, USDA.

ACTION: Notice of meeting.

SUMMARY: The California Coast Provincial Advisory Committee (PAC) will meet on June 11 and 12, 2003, in Arcata, California. The purpose of the meeting is to discus issues relating to implementing the Northwest Forest Plan (NWFP).

DATES: The meeting will be held from 1 p.m. to 5 p.m. on June 11, 2003, and from 8:30 a.m. to noon on June 12, 2003.

ADDRESSES: The meeting will be held at the Mad River Rapids Conference Room (Quality Inn), 3501 Janes Road, Arcata, CA.

FOR FURTHER INFORMATION CONTACT: Phebe Brown, Committee Coordinator, USDA, Mendocino National Forest, 825 N. Humboldt Avenue, Willows, CA 95988, (530) 934-1137; E-mail pybrown@fs.fed.us.

SUPPLEMENTARY INFORMATION: Agenda items to be covered include: (1) Regional Ecosystem Office (REO) update; (2) Presentation on current Forest Service issues; (3) Update on planning for a Province fire ecology/fuels treatment workshop; (4) Presentation on Survey and Manage Draft Supplemental Environmental Impact Statement and Aquatic Conservation Subcommittee comment recommendations; (5) Work on the Ground Subcommittee discussion of proposed timber harvest issue; (6) Forest Service Region 5 review of NWFP; (7) NWFP Implementation Monitoring; and (8) Public comment. The meeting is open to the public. Public input opportunity will be provided and individuals will have the opportunity to address the Committee at that time.

Dated: May 13, 2003.
James D. Fenwood,
Forest Supervisor.

[FR Doc. 03-12402 Filed 5-16-03; 8:45 am]

BILLING CODE 3410-11-M